DEPARTMENT OF THE INTERIOR

National Park Service

[NPS-WASO-NAGPRA-NPS0037881; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), the California State University, Sacramento has completed an inventory of human remains and associated funerary objects and has determined that there is a cultural affiliation between the human remains and associated funerary objects and Indian Tribes or Native Hawaiian organizations in this notice.

DATES: Repatriation of the human remains and associated funerary objects in this notice may occur on or after June 10, 2024.

ADDRESSES: Dr. Mark Wheeler, Senior Advisor to President Luke Wood, California State University, Sacramento, 6000 J Street, Sacramento, CA 95819, telephone (916) 460-0490, email mark.wheeler@csus.edu.

SUPPLEMENTARY INFORMATION: This notice is published as part of the National Park Service's administrative responsibilities under NAGPRA. The determinations in this notice are the sole responsibility of the California State University, Sacramento, and additional information on the determinations in this notice, including the results of consultation, can be found in the inventory or related records. The National Park Service is not responsible for the determinations in this notice.

Abstract of Information Available

In 1964-71, Stephen Humphreys, a student at Sacramento State College, conducted extensive surveys and excavations in the region between Oroville and Paradise in Butte County, California.

Human remains representing, at minimum, two individuals were removed from CA-BUT-301 (Kathy's Rockshelter). The 52,341 associated funerary objects from the site include baked clay objects; faunal and floral remains; flaked and ground stone objects; modified bone, shell, stone, and wood objects; basketry and cordage, thermally altered rock; quartz crystals; unmodified stones; pigment; historic materials (worked glass, buttons, beads and textiles), and soils.

Human remains representing, at minimum, three individuals were removed from CA-BUT-302 (Fox Site). The 4,324 associated funerary objects from the site include baked clay objects; faunal and floral remains; flaked and ground stone objects; modified bone, shell and stone; quartz crystals; unmodified stone; and soils.

Human remains representing, at minimum, four individuals were removed from CA-BUT-669 (Kendall's Rockshelter). The 4,754 associated funerary objects from the site include baked clay objects; faunal and floral remains; flaked and ground stone objects; modified bone, shell and stone; quartz crystals; unmodified stone; pigment; historic material (worked glass, buttons); and ash and soils. An unknown number of objects may be missing from the collection, and California State University, Sacramento continues to look for them.

Cultural Affiliation

Based on the information available and the results of consultation, cultural affiliation is clearly identified by the information available about the human remains and associated funerary objects described in this notice.

Determinations

The California State University, Sacramento has determined that:

• The human remains described in this notice represent the physical remains of nine individuals of Native American ancestry.

• The 61,419 objects described in this notice are reasonably believed to have been placed intentionally with or near individual human remains at the time of death or later as part of the death rite or ceremony.

• There is a reasonable connection between the human remains and associated funerary objects described in this notice and the Berry Creek Rancheria of Maidu Indians of California; Enterprise Rancheria of Maidu Indians of California; Greenville Rancheria; Mechoopda Indian Tribe of Chico Rancheria, California; and the Mooretown Rancheria of Maidu Indians of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 10, 2024. If competing requests for repatriation are received, the California State University, Sacramento must determine the most appropriate requestor prior to repatriation. Requests for joint repatriation of the human remains and associated funerary objects are considered a single request and not competing requests. The California State University, Sacramento is responsible for sending a copy of this notice to the Indian Tribes and Native Hawaiian organizations identified in this notice.

Authority: Native American Graves Protection and Repatriation Act, 25 U.S.C. 3003, and the implementing regulations, 43 CFR 10.10.

Dated: April 30, 2024.
Melanie O'Brien,
Manager, National NAGPRA Program.

[FR Doc. 2024-10156 Filed 5-8-24; 8:45 am]

BILLING CODE 4312-52-P